DEPARTMENT OF LABOR

Bureau of International Labor Affairs, Request for Information on Efforts by Certain Countries To Eliminate the Worst Forms of Child Labor

AGENCY: The Bureau of International Labor Affairs, United States Department of Labor.

ACTION: Request for information on efforts by certain countries to eliminate the worst forms of child labor.

SUMMARY: This notice is a request for information for use by the Department of Labor in preparation of an annual report on certain trade beneficiary countries' implementation of international commitments to eliminate the worst forms of child labor. This will be the seventh such report by the Department of Labor under the Trade and Development Act of 2000 (TDA).

DATES: Submitters of information are requested to provide two (2) copies of their written submission to the Office of Child Labor, Forced Labor and Human Trafficking at the address below by 5 p.m., December 7, 2007.

ADDRESSES: Written submissions should be addressed to Tina McCarter at the Office of Child Labor, Forced Labor and Human Trafficking, Bureau of International Labor Affairs, U.S. Department of Labor, 200 Constitution Avenue, NW., Room S-5317, Washington, DC 20210 or may be sent via e-mail to mccarter.tina@dol.gov.

FOR FURTHER INFORMATION CONTACT: Tina McCarter or Charita Castro, Bureau of International Labor Affairs, Office of Child Labor, Forced Labor and Human Trafficking, at (202) 693-4843, fax: (202) 693-4830, or via e-mail to mccarter-tina@dol.gov or castro.charita@dol.gov. The Department of Labor's international child labor reports can be found on the Internet at http://www.dol.gov/ILAB/media/reports/iclp/main.htm or can be obtained from the Office of Child Labor, Forced Labor and Human Trafficking.

SUPPLEMENTARY INFORMATION: The Trade and Development Act of 2000 [Pub. L. 106-200] established a new eligibility criterion for receipt of trade benefits under the Generalized System of Preferences (GSP), Caribbean Basin Trade and Partnership Act (CBTPA), and Africa Growth and Opportunity Act (AGOA). The TDA amends the GSP reporting requirements of the Trade Act of 1974 (Section 504) [19 U.S.C. 2464] to require that the President's annual report on the status of internationally recognized worker rights include “findings by the Secretary of Labor with respect to the beneficiary country's implementation of its international commitments to eliminate the worst forms of child labor.” Title II of the TDA and the TDA Conference Report [Joint Explanatory Statement of the Committee of Conference, 106th Cong.2d.sess. (2000)] indicate that the same criterion applies for the receipt of benefits under CBTPA and AGOA, respectively.

In addition, the Andean Trade Preference Act (ATPA) as amended and expanded by the Andean Trade Promotion and Drug Eradication Act (ATPDEA) (Pub. L. 107-210, Title XXXI) includes as a criterion for receiving benefits “[w]hether the country has implemented its commitments to eliminate the worst forms of child labor as defined in section 507(6) of the Trade Act of 1974.”

Scope of Report

Countries and non-independent countries and territories presently eligible under the GSP and to be included in the report are:

Afghanistan, Albania, Algeria, Angola, Anguilla, Argentina, Armenia, Bangladesh, Belize, Benin, Bhutan, Bolivia, Bosnia and Herzegovina, Botswana, Brazil, British Indian Ocean Territory, British Virgin Islands, Burkina Faso, Burundi, Cambodia, Cameroon, Cape Verde, Central African Republic, Chad, Christmas Island, Cocos Islands, Colombia, Comoros, Democratic Republic of the Congo, Republic of Congo, Cook Islands, Costa Rica, Cote d'Ivoire, Croatia, Djibouti, Dominica, Dominican Republic, East Timor, Ecuador, Egypt, Equatorial Guinea, Eritrea, Ethiopia, Falkland Islands, Fiji, Gabon, the Gambia, Georgia, Ghana, Gibraltar, Grenada, Guinea, Guinea-Bissau, Guyana, Haiti, Heard Island and MacDonald Islands, India, Indonesia, Iraq, Jamaica, Jordan, Kazakhstan, Kenya, Kiribati, Kyrgyz Republic, Lebanon, Lesotho, Liberia, Macedonia, Madagascar, Malawi, Mali, Mauritania, Mauritius, Moldova, Mongolia, Montenegro, Montserrat, Mozambique, Namibia, Nepal, Niger, Nigeria, Niue, Norfolk Island, Oman, Pakistan, Panama, Papua New Guinea, Paraguay, Peru, Philippines, Pitcairn Island, Russia, Rwanda, Saint Helena, Saint Kitts and Nevis, Saint Lucia, Saint Vincent and the Grenadines, Samoa, Sao Tomé and Principe, Senegal, Serbia, Seychelles, Sierra Leone, Solomon Islands, Somalia, South Africa, Sri Lanka, Suriname, Swaziland, Tanzania, Thailand, Togo, Tokelau Island, Tonga, Trinidad and Tobago, Tunisia, Turkey, Turks and Caicos Islands, Tuvalu, Uganda, Ukraine, Uruguay, Uzbekistan, Vanuatu, Venezuela, Wallis and Futuna, West Bank and Gaza Strip, Western Sahara, Republic of Yemen, Zambia, and Zimbabwe.

Countries eligible or potentially eligible for additional benefits under the AGOA and to be included in the report are: Angola, Benin, Botswana, Burkina Faso, Burundi, Cameroon, Cape Verde, Chad, Republic of Congo, Democratic Republic of the Congo, Djibouti, Ethiopia, Gabon, the Gambia, Ghana, Guinea, Guinea Bissau, Kenya, Lesotho, Liberia, Madagascar, Malawi, Mali, Mauritania, Mauritius, Mozambique, Namibia, Niger, Nigeria, Rwanda, Sao Tome and Principe, Senegal, Seychelles, Sierra Leone, South Africa, Swaziland, Tanzania, Uganda, and Zambia.

Countries potentially eligible for additional benefits under the CBTPA and to be included in the report are: Barbados, Belize, Costa Rica, Dominican Republic, Guyana, Haiti, Jamaica, Panama, Saint Lucia, and Trinidad and Tobago.

Countries potentially eligible for additional benefits under the ATPA/ATPDEA and to be included in the report are: Bolivia, Colombia, Ecuador, and Peru.

In addition, the following countries will be included in the report in view of Department of Labor Appropriations, 2006, Conference Report, H.R. Rep. 109-337 (2005): Bahrain, Chile, El Salvador, Guatemala, Honduras, Morocco, and Nicaragua.

Information Sought

The Department invites interested parties to submit written information relevant to the findings to be made by the Department of Labor under the TDA, for all listed countries. Information provided through public submission will be considered by the Department of Labor in preparing its findings. Materials submitted should be confined to the specific topic of the study. In particular, the Department's Bureau of International Labor Affairs is seeking written submissions on the following topics:

1. Whether the country has adequate laws and regulations proscribing the worst forms of child labor. Specifically, DOL is seeking the following information:

(a) What laws have been promulgated on child labor, such as minimum age(s) for employment or hazardous forms of work? Are there exceptions to these laws?

(b) What laws have been promulgated on the worst forms of child labor, such as forced child labor and trafficking or child prostitution and pornography? What is the country's minimum age for military recruitment?

(c) If the country has ratified Convention 182, has it developed a list of occupations considered to be worst forms of child labor, as called for in article 4 of the Convention?

2. Whether the country has adequate laws and regulations as well as formal institutional mechanisms for the implementation and enforcement of such laws and regulations; specifically:

(a) What legal remedies are available to government agencies that enforce child labor laws (criminal penalties, civil fines, etc.), and are they adequate to deter violations?

(b) To what extent are complaints investigated and violations addressed?

(c) What level of resources does the government devote to investigating child labor cases? How many inspectors does the government employ to address child labor? How many child labor investigations have been conducted over the past year? How many have resulted in penalties or convictions?

(d) Has the government provided training activities for officials charged with enforcing child labor laws?

3. Whether social programs exist in the country to prevent the engagement of children in the worst forms of child labor, and to assist in the removal of children engaged in the worst forms of child labor; specifically:

(a) What initiatives has the government supported specifically to prevent or withdrawn children from exploitive work situations, such as school scholarships conditioned on a child' withdrawal from child labor? (If possible, please provide information on funding levels for such initiatives.)

4. Whether the country has a comprehensive policy for the elimination of the worst forms of child labor; specifically:

(a) Does the country have a comprehensive policy or national program of action on child labor or any of its forms?

(b) Does the country specifically incorporate child labor in poverty reduction, development, educational or other social policies or programs, such as Poverty Reduction Strategy Papers, etc? If so, to what degree has the country implemented the policy and/or program of action and achieved its goals and objectives?

(c) Is education free in law and in practice? Is education compulsory in law and in practice?

Please note that although many anti-poverty programs may have indirect impacts on child labor, the TDA calls for governments to take specific actions to address the problem. Therefore, the DOL's report focuses on efforts that name child labor as an explicit objective, target group, or condition for participation in government policies and programs.

5. Whether the country is making continual progress toward eliminating the worst forms of child labor; specifically:

(a) In what sectors/work activities/goods are children involved and how has this changed over the past year? Information on age and gender of working children, disaggregated by industry/work activity/good, is appreciated.

(b) To what extent are children working in slavery or practices similar to slavery, such as debt bondage, serfdom, and forced or compulsory labor? Please indicate industries where this occurs and, if applicable, specific goods that such children produce.

(c) To what extent are children trafficked to work? Are children trafficked for commercial sex or for labor exploitation? Information on the industries into which children are trafficked and the goods that they produce in this situation is appreciated. Are they trafficked across national borders or within the country (specify source, destination and transit countries/regions/communities, if possible).

Copies of any recent government surveys on child labor are most appreciated. In regard to education statistics and to ensure comparability across countries in the TDA report, DOL will generally rely on UNESCO Institute of Statistics data (http://stats.uis.unesco.org/).

DOL greatly appreciates submission of original sources. Information submitted may include reports, newspaper articles, or other materials. Governments that have ratified ILO Convention 182 are requested to submit copies of their most recent article 22 submissions under the Convention, especially those with information on types of work determined in accordance with Article 3(d) of the Convention.

Definition of Worst Forms of Child Labor

The term “worst forms of child labor” is defined in section 412(b) of the TDA as comprising:

“(A) all forms of slavery or practices similar to slavery, such as the sale and trafficking of children, debt bondage and serfdom and forced or compulsory labor, including forced or compulsory recruitment of children for use in armed conflict;

(B) the use, procuring or offering of a child for prostitution, for the production of pornography or for pornographic performances;

(C) the use, procuring or offering of a child for illicit activities, in particular for the production and trafficking of drugs as defined in relevant international treaties; and

(D) work which, by its nature or the circumstances in which it is carried out, is likely to harm the health, safety or morals of children.”

The TDA Conference Report noted that the phrase, “work which, by its nature or the circumstances in which it is carried out, is likely to harm the health, safety or morals of children” is to be defined as in Article II of Recommendation No. 190, which accompanies ILO Convention No. 182. This includes

“(a) work which exposes children to physical, psychological, or sexual abuse;

(b) work underground, under water, at dangerous heights or in confined spaces;

(c) work with dangerous machinery, equipment and tools, or which involves the manual handling or transport of heavy loads;

(d) work in an unhealthy environment which may, for example, expose children to hazardous substances, agents or processes, or to temperatures, noise levels, or vibrations damaging to their health;

(e) work under particularly difficult conditions such as work for long hours or during the night or work where the child is unreasonably confined to the premises of the employer.”

The TDA Conference Report further indicated that this phrase be interpreted in a manner consistent with the intent of Article 4 of ILO Convention No. 182, which states that such work shall be determined by national laws or regulations or by the competent authority in the country involved.

This notice is a general solicitation of comments from the public.

Signed at Washington, DC this 5th day of November, 2007.
Charlotte Ponticelli,
Deputy Undersecretary, Bureau of International Labor Affairs.

[FR Doc. E7-21920 Filed 11-7-07; 8:45 am]

BILLING CODE 4510-28-P